U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission, a legislative branch commission mandated by Congress to investigate, assess, and report to Congress annually on “the national security implications of the economic relationship between the United States and the People's Republic of China.” Pursuant to this mandate, the Commission will hold a public hearing in Washington, DC on March 20, 2025 on “Crossroads of Competition: China in Southeast Asia and the Pacific Islands.”

DATES: The hearing is scheduled for Thursday, March 20, 2025 at 9:30 a.m.

ADDRESSES: Members of the public will be able to attend in person at or near the U.S. Capitol and adjacent Congressional office buildings (specific building and room number to be announced) or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background

This is the third public hearing the Commission will hold during its 2025 reporting cycle. The hearing will first examine how Southeast Asia and the Pacific Islands factor into Chinese strategic thinking and China's diplomatic and soft power initiatives in both regions. Next, the hearing will review China's role in Southeast Asian and Pacific Islands security issues, including China's aggressive gray zone activities in the South China Sea, Beijing's role in facilitating transnational crime, and China's efforts to expand its security cooperation with both regions. Finally, the hearing will explore China's economic engagement with Southeast Asia and the Pacific Islands, analyzing issues such as shifting supply chains, investment and development finance under the Belt and Road Initiative, and economic coercion.

The hearing will be co-chaired by Chair Reva Price and Vice Chair Randall Schriver. Any interested party may file a written statement by March 20, 2025 by transmitting to the contact above. A portion of the hearing will include a question and answer period between the Commissioners and the witnesses.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: February 27, 2025.
Christopher P. Fioravante,
Deputy Executive Director, U.S.-China Economic and Security Review Commission.

[FR Doc. 2025-03569 Filed 3-4-25; 8:45 am]

BILLING CODE 1137-00-P